DEPARTMENT OF JUSTICE

Notice of Lodging of Consent Decree Under the Clean Air Act

Notice is hereby given that on June 14, 2012, a proposed Consent Decree between plaintiff the United States and defendants American Seafoods Company LLC and Pacific Longline Company LLC (“Consent Decree”) was lodged with the United States District Court for the Western District of Washington.

In this action the United States sought civil penalties and injunctive relief for defendants' alleged violations of regulations promulgated by the United States Environmental Protection Agency (EPA) pursuant to Title VI of the Clean Air Act, specifically regulations set forth in 40 CFR Part 82, Subparts A and F, pertaining to the management and control of ozone-depleting substances. The Consent Decree requires the defendants to pay a civil penalty of $700,000.00 and implement measures to ensure their compliance and to partially remedy the impact of their alleged violations, including requirements to retire the equivalent of ozone-depleting substances consumption allowances they were required to purchase for previous imports of ozone-depleting refrigerants, convert at least two vessels employing ozone-depleting refrigerants to refrigerant systems using non-ozone-depleting substances, and implement a comprehensive leak inspection and repair program.

For thirty (30) days after the publication of this notice, the Department of Justice will receive comments related to the Consent Decree. Comments should be addressed to the Assistant Attorney General, Environment and Natural Resources Division, and either mailed to pubcomment-ees.enrd@usdoj.gov or to P.O. Box 7611, U.S. Department of Justice, Washington, DC 20044-7611, and should refer to United States v. American Seafoods LLC and Pacific Longline Company LLC, No. 12-cv-01040 (W.D. Wash.), DOJ No. 90-5-2-1-10161.

During the public comment period, the Consent Decree may also be examined on the following Department of Justice Web site: http://www.usdoj.gov/enrd/Consent_Decrees.html. A copy of the Consent Decree may also be obtained by mail from the Consent Decree library, P.O. Box 7611, U.S. Department of Justice, Washington, DC 20044-7611, or by faxing or emailing a request to “Consent Decree Copy” (EESCDCopy.ENRD@udoj.gov), fax no. (202) 514-0097, phone confirmation number (202) 514-5271. If requesting a copy from the Consent Decree library by mail, please enclose a check in the amount of $7.00 (25 cents per page reproduction cost) payable to the U.S. Treasury or, if requesting by email or fax, forward a check in that amount to the Consent Decree Library at the address given above.

Robert E. Maher, Jr.,
Assistant Section Chief, Environmental Enforcement Section, Environment and Natural Resources Division.

[FR Doc. 2012-15845 Filed 6-27-12; 8:45 am]

BILLING CODE 4410-15-P